DEPARTMENT OF ENERGY

Federal Energy Regulatory Commission

[Docket No. EL08-38-000]

Atlantic Path 15, LLC; Notice of Institution of Proceeding and Refund Effective Date

February 20, 2008.

On February 19, 2008, the Commission issued an order that instituted a proceeding in the above-referenced docket, pursuant to section 206 of the Federal Power Act (FPA) 16 U.S.C. 824e, concerning Atlantic Path 15, LLC's proposed transmission rates. Atlantic Path 15, LLC, 122 FERC ¶ 61,135 (2008).

The refund effective date in the above-docketed proceeding, established pursuant to section 206(b) of the FPA, will be the date of publication of this notice in the Federal Register.

Kimberly D. Bose,
Secretary.

[FR Doc. E8-3657 Filed 2-26-08; 8:45 am]

BILLING CODE 6717-01-P